NUCLEAR REGULATORY COMMISSION

[Docket No. 50-244]

R.E. Ginna Nuclear Power Plant, LLC, R.E. Ginna Nuclear Power Plant; Notice of Receipt and Availability for Comment of Request Regarding Release of Part of Site for Unrestricted Use

AGENCY: U.S. Nuclear Regulatory Commission.

ACTION: Notice of receipt and availability for comment.

DATES: Comments must be provided in writing by August 10, 2005.

FOR FURTHER INFORMATION CONTACT: Patrick D. Milano, Senior Project Manager, Section 1, Project Directorate I, Division of Licensing Project Management, Office of Nuclear Reactor Regulation, U.S. Nuclear Regulatory Commission, Washington, DC 20555. Telephone: 301-415-1457; fax no.: 301-415-2102; e-mail: pdm@nrc.gov.

SUPPLEMENTARY INFORMATION:

I. Introduction

The Nuclear Regulatory Commission (NRC) has received, by letter dated May 20, 2005, an application filed by R. E. Ginna Nuclear Power Plant, LLC (Ginna LLC) requesting the release of a part of the site for unrestricted use at its R. E. Ginna Nuclear Power Plant (Ginna Plant), located in Wayne County, New York. An NRC administrative review, documented in a letter to Ginna LLC dated June 29, 2005, found the request acceptable to begin a technical review. Before approving the proposed partial site release, the NRC will need to determine that the licensee has met the criteria set forth in Section 50.83, “Release of part of a power reactor facility or site for unrestricted use,” of Part 50 of Title 10 of the Code of Federal Regulations (10 CFR 50.83). The tract of land proposed for release consists of two adjacent parcels, comprising a total of approximately 15 acres located along the western edge of the Ginna Plant site boundary, and is entirely outside of the Exclusion Area. The release of the part of the site would allow Ginna LLC to convey the tract of land under a Purchase and Sale Contract dated September 10, 2002, that was assumed from the former licensee of the Ginna Plant. Pursuant to this contract agreement, the land would be sold to a real estate developer for the purpose of developing the land for residential use. No physical changes to the Ginna Plant facility or operational changes are being proposed in the application.

The NRC will approve an application for partial release of a non-impacted area, if it determines that the licensee has adequately evaluated the effect of releasing the property and has adequately justified the classification of any release areas as non-impacted.

II. Opportunity To Provide Comments

The NRC is providing notice to individuals in the vicinity of the facility that the NRC is in receipt of this request, and will accept written comments concerning this proposal by August 10, 2005. The comments must be submitted to the Secretary, U.S. Nuclear Regulatory Commission, Washington, DC 20555-0001, Attention: Rulemakings and Adjudications Staff, and should cite the publication date and page number of this Federal Register notice. Furthermore, before acting upon this request for approval submitted in accordance with 10 CFR 50.83, the NRC will schedule and conduct in the near future a public meeting in the vicinity of the Ginna Plant for the purpose of obtaining public comments on the proposed release of the part of the site. The NRC will consider and, if appropriate, respond to these written and verbal comments, but such comments will not otherwise constitute part of the decisional record. Comments received after public meeting will be considered if practicable to do so, but only those comments received on or before the public meeting can be assured consideration.

III. Further Information

Documents related to this action, including the application for approval and supporting documentation, are available for public inspection at the NRC's Public Document Room (PDR), located at One White Flint North, Public File Area O1 F21, 11555 Rockville Pike (first floor), Rockville, Maryland. Publicly available records will also be accessible electronically as text and image files from the Agencywide Documents Access and Management System's (ADAMS) Public Electronic Reading Room on the Internet at the NRC Web site, http://www.nrc.gov/reading-rm/adams.html.

The ADAMS accession numbers for the documents related to this notice are:

Title | ADAMS accession No.
Application, “Partial Site Release” | ML051530448
Drawing 1 of 4, “Ginna Site Boundary Survey” | ML051530451
Drawing 2 of 4, “Building Details” | ML051530453
Drawing 3 of 4, “Site Detail” | ML051530454
Drawing 4 of 4, “Station 13A Site Survey Map” | ML051530457

Persons who do not have access to ADAMS or who encounter problems in accessing the documents located in ADAMS, should contact the NRC PDR Reference staff by telephone at 1-800-397-4209, 301-415-4737 or by e-mail to pdr@nrc.gov. The PDR reproduction contractor will copy documents for a fee.

Dated at Rockville, Maryland, this 5th day of July 2005.
For the Nuclear Regulatory Commission.
Patrick D. Milano,
Senior Project Manager, Section 1, Project Directorate I, Division of Licensing Project Management, Office of Nuclear Reactor Regulation.

[FR Doc. E5-3634 Filed 7-8-05; 8:45 am]

BILLING CODE 7590-01-P